ENVIRONMENTAL PROTECTION AGENCY

[FRL-9324-2]

National Advisory Council for Environmental Policy and Technology

AGENCY: Environmental Protection Agency (EPA).

ACTION: Notice of meeting.

SUMMARY: Under the Federal Advisory Committee Act, Public Law 92463, EPA gives notice of a public teleconference of the National Advisory Council for Environmental Policy and Technology (NACEPT). NACEPT provides advice to the EPA Administrator on a broad range of environmental policy, technology, and management issues. NACEPT represents diverse interests from academia, industry, non-governmental organizations, and local, state, and tribal governments. The purpose of this meeting is to discuss and approve NACEPT's Second Advice Letter on EPA Workforce Planning: Leadership Capabilities and Culture for “One EPA” and Strategies to Obtain and Retain Scientific and Technical Expertise. A copy of the agenda for the meeting will be posted at http://www.epa.gov/ofacmo/nacept/cal-nacept.htm.

DATES: NACEPT will hold a public teleconference on Monday, July 11, 2011, from 11 a.m.-12:30 p.m. Eastern Daylight Time.

ADDRESSES: The meeting will be held in the U.S. EPA East Building, 1201 Constitution Ave., NW., Room 1132, Washington, DC 20004.

FOR FURTHER INFORMATION CONTACT: Megan Moreau, Acting Designated Federal Officer, moreau.megan@epa.gov, (202) 564-5320, U.S. EPA, Office of Federal Advisory Committee Management and Outreach (1601M), 1200 Pennsylvania Avenue, NW, Washington, DC 20460.

SUPPLEMENTARY INFORMATION: Requests to make oral comments or to provide written comments to NACEPT should be sent to Megan Moreau, Acting Designated Federal Officer, at the contact information above by Wednesday, July 6, 2011. The public is welcome to attend all portions of the meeting, but seating is limited and is allocated on a first-come, first-serve basis. Members of the public wishing to gain access to the conference room on the day of the meeting must contact Megan Moreau at (202) 564-5320 or moreau.megan@epa.gov by July 6, 2011.

Meeting Access: For information on access or services for individuals with disabilities, please contact Megan Moreau at (202) 564-5320 or moreau.megan@epa.gov. To request accommodation of a disability, please contact Megan Moreau, preferably at least 10 days prior to the meeting, to give EPA as much time as possible to process your request.

Dated: June 20, 2011.
Megan Moreau,
Acting Designated Federal Officer.

[FR Doc. 2011-15948 Filed 6-23-11; 8:45 am]

BILLING CODE 6560-50-P